ENVIRONMENTAL PROTECTION AGENCY

[ER-FRL-6685-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

Summary of Rating Definitions

Environmental Impact of the Action

LO—Lack of Objections

The EPA review has not identified any potential environmental impacts requiring substantive changes to the proposal. The review may have disclosed opportunities for application of mitigation measures that could be accomplished with no more than minor changes to the proposal.

EC—Environmental Concerns

The EPA review has identified environmental impacts that should be avoided in order to fully protect the environment. Corrective measures may require changes to the preferred alternative or application of mitigation measures that can reduce the environmental impact. EPA would like to work with the lead agency to reduce these impacts.

EO—Environmental Objections

The EPA review has identified significant environmental impacts that must be avoided in order to provide adequate protection for the environment. Corrective measures may require substantial changes to the preferred alternative or consideration of some other project alternative (including the no action alternative or a new alternative). EPA intends to work with the lead agency to reduce these impacts.

EU—Environmentally Unsatisfactory

The EPA review has identified adverse environmental impacts that are of sufficient magnitude that they are unsatisfactory from the standpoint of public health or welfare or environmental quality. EPA intends to work with the lead agency to reduce these impacts. If the potentially unsatisfactory impacts are not corrected at the final EIS stage, this proposal will be recommended for referral to the CEQ.

Adequacy of the Impact Statement

Category 1—Adequate

EPA believes the draft EIS adequately sets forth the environmental impact(s) of the preferred alternative and those of the alternatives reasonably available to the project or action. No further analysis or data collection is necessary, but the reviewer may suggest the addition of clarifying language or information.

Category 2—Insufficient Information

The draft EIS does not contain sufficient information for EPA to fully assess environmental impacts that should be avoided in order to fully protect the environment, or the EPA reviewer has identified new reasonably available alternatives that are within the spectrum of alternatives analyzed in the draft EIS, which could reduce the environmental impacts of the action. The identified additional information, data, analyses, or discussion should be included in the final EIS.

Category 3—Inadequate

EPA does not believe that the draft EIS adequately assesses potentially significant environmental impacts of the action, or the EPA reviewer has identified new, reasonably available alternatives that are outside of the spectrum of alternatives analyzed in the draft EIS, which should be analyzed in order to reduce the potentially significant environmental impacts. EPA believes that the identified additional information, data, analyses, or discussions are of such a magnitude that they should have full public review at a draft stage. EPA does not believe that the draft EIS is adequate for the purposes of the NEPA and/or Section 309 review, and thus should be formally revised and made available for public comment in a supplemental or revised draft EIS. On the basis of the potential significant impacts involved, this proposal could be a candidate for referral to the CEQ.

Final EISs

EIS No. 20060488, ERP No. F-BLM-J02049-WY, Atlantic Rim Natural Gas Field Development Project, Proposed Natural Gas Development to 2000 Wells, 1800 to Coal Beds and 200 to Other Formations, Carbon County, WY.

Summary: EPA continues to have environmental concerns about adverse impacts to water quality, wildlife habitat and native vegetation, and suggests that the ROD include additional BMPs that avoid or reduce impacts to these resources.

EIS No. 20070023, ERP No. F-AFS-L65521-WA, Buckhorn Access Project, To Utilize the Marias Creek Route to Construct and Reconstruct Roads, Funding, NPDES Permit and U.S. Army COE Section 404 Permit, Okanogan and Wenatchee National Forests, Tonasket Ranger District, Okanogan County, WA.

Summary: The Final EIS addressed EPA's comments on the NPDES permit and surface water quality; however, EPA continues to have environmental concerns about impacts to wetlands. EPA requests that the ROD include detailed information on the performance bond and implementation of the monitoring plan based on the most recent modeling and analysis of water resources. Additionally, the ROD should outline how the monitoring activities of 3 agencies will be coordinated.

EIS No. 20070062, ERP No. F-NPS-H65025-NE, Niobrara National Scenic River General Management Plan, Implementation, Brown, Cherry, Keya Paha and Rock Counties, NE.

Summary: EPA does not object to the proposed action.

EIS No. 20070066, ERP No. F-BLM-K65294-AZ, Arizona Strip Field Office Resource Management Plan, which includes: Vermilion Cliffs National Monument, Grand-Canyon-Parashant National Monument (Parashant) BLM Portion, General Management Plan for the Grand Canyon-Parashant National Monument NPS Portion of Parashant, Implementation, AZ.

Summary: No formal comment letter was sent to the preparing agency.

Dated: April 3, 2007.
Robert W. Hargrove,
Director, NEPA Compliance Division, Office of Federal Activities.

[FR Doc. E7-6456 Filed 4-5-07; 8:45 am]

BILLING CODE 6560-50-P